OFFICE OF SCIENCE AND TECHNOLOGY POLICY

Notice of Availability and Request for Information; Federal Evidence Agenda on Disability Equity; Correction

AGENCY: Office of Science and Technology Policy (OSTP).

ACTION: Request for information (RFI); correction.

SUMMARY: The White House Office of Science and Technology Policy (OSTP) published a Request for Information (RFI) on the Federal Evidence Agenda on Disability Equity in the Federal Register on May 30, 2024. The RFI contained incorrect information in the For Further Information Contact section. The correct information is provided below.

SUPPLEMENTARY INFORMATION:

Correction

In the Federal Register on May 30, 2024, in FR Doc. 2024-46924, on page 46925, the information in the For Further Information Contact section should read as follows:

FOR FURTHER INFORMATION CONTACT: Please email disabilitydata@ostp.eop.gov with “Federal Evidence Agenda on Disability Equity RFI” in the subject line, or contact Adam Politis, Senior Policy Advisor for Disability and Equity, at 202-881-8448. Individuals who are deaf, deafblind, hard of hearing, or have a speech disability may dial 711 to access Telecommunications Relay Services.

Dated: June 3, 2024.
Stacy Murphy,
Deputy Chief Operations Officer/Security Officer.

[FR Doc. 2024-12399 Filed 6-5-24; 8:45 am]

BILLING CODE 3270-F2-P